CORPORATION FOR NATIONAL AND COMMUNITY SERVICE

Agency Information Collection Activities; Submission to the Office of Management and Budget for Review and Approval; Comment Request; Application Package for Renewal of the Disaster Response Cooperative Agreement (DRCA)

AGENCY: Corporation for National and Community Service (CNCS).

ACTION: Notice of information collection; request for comment.

SUMMARY: In accordance with the Paperwork Reduction Act of 1995, CNCS is proposing to renew an information collection.

DATES: Written comments must be submitted to the individual and office listed below by September 11, 2017.

ADDRESSES: To access and review all the documents related to the information collection listed in this notice, please use http://www.regulations.gov. You may submit comments, identified by the title of the information collection activity by any of the following methods:

(1) By mail sent to: Corporation for National and Community Service, Attention: Chad Stover, Disaster Services, 250 E St. SW., Suite 300, Washington, DC 20525.

(2) By hand delivery or by courier to the CNCS mailroom, Room 4200 at the mailing address above, between 9:00 a.m. and 4:00 p.m. Eastern Time, Monday through Friday, except Federal holidays.

(3) Electronically through www.regulations.gov.

FOR FURTHER INFORMATION CONTACT: For specific questions related to collection activities, please contact Chad Stover, 202-606-6925, or by email at cstover@cns.gov. Individuals who use a telecommunications device for the deaf (TTY-TDD) may call 1-800-833-3722 between 8:00 a.m. and 8:00 p.m. Eastern Time, Monday through Friday.

SUPPLEMENTARY INFORMATION: The Corporation for National and Community Service (CNCS), in accordance to the Paperwork Reduction Act of 1995 (PRA) (44 U.S.C. Sec. 3506(c)(2)(A)), provides the general public and federal agencies with an opportunity to comment on proposed and/or continuing collections of information. This helps CNCS assess the impact of its information collection requirements and minimize the public's reporting burden (time and financial resources). It also helps the public understand CNCS' information collection requirements and provide the requested data in the desired format. CNCS is soliciting comments on the proposed renewal information collection request (ICR) that is described below. CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Comments submitted in response to this notice will be summarized and/or included in the request for Office of Management and Budget approval of the information collection request. Please note that written comments received in response to this notice will become a matter of public record.

Title of Collection: Application Package for Renewal of the Disaster Response Cooperative Agreement.

OMB Control Number: 3045-0133.

Type of Review: Renewal of information collection.

Respondents/Affected Public: Current grantees and CNCS-supported programs.

Total Estimated Number of Annual Respondents: 100.

Total Estimated Annual Frequency: Varies, see chart.

Total Estimated Average Response Time per Response: Varies, see chart.

Total Estimated Number of Annual Burden Hours: 4,970.

Total Burden Cost (capital/startup): None.

Total Burden Cost (operating/maintenance): None.

Instrument | Frequency per year | Respondents | Time per response (hours) | Total time per instrument
DRCA Application | 1 | 40 | 8 | 320
DRT Quarterly Capacity Assessment | 4 | 25 | 1 | 100
CNCS Disaster Budget and Deployment Form | 5 | 25 | 1 | 125
CNCS Disaster Budget and Deployment Amendment Form | 5 | 25 | 1 | 125
CNCS National Service Daily Situation Report | 150 | 25 | 1 | 3750
CNCS National Service Daily Situation Report Full Guidance | 1 | 25 | 2 | 50
CNCS Disaster Deployment After Action Report | 5 | 25 | 2 | 250
CNCS-FEMA Mission Assignment Reimbursement Form | 5 | 25 | 2 | 250
Total | 176 | 215 | 18 | 4970

Abstract

CNCS seeks renewal of the current information collection pursuant to the Domestic Volunteer Service Act of 1973 (42 U.S.C. 4950 et seq.) and the National and Community Service Act of 1990, (42 U.S.C. 12501 et seq.) The information collected will be used to help CNCS more effectively utilize its deployable resources to meet the needs of disaster affected communities. A better understanding of the participating programs will allow CNCS to match the capabilities of the programs to the needs of the communities and will allow better asset mapping and resource typing. Additionally, the information collected will allow CNCS to conduct better outreach to interested programs by providing them with more information about CNCS disaster procedures, reimbursement requirements, and support services offered.

The revisions are intended to streamline the application process and ensure interested programs meet the appropriate programmatic and fiscal requirements to successfully execute disaster response activities. Additionally, the supporting forms will help CNCS identify and deploy programs more effectively and efficiently, matching the capabilities of the programs to the needs of the communities requesting assistance. The additional tools and forms under the DRCA will allow for effective information collection during a disaster event as well as assess the capacity of all DRCA programs throughout the year. Information will be collected electronically through completion of the forms and emailed to CNCS. The information collection will otherwise be used in the same manner as the existing application.

CNCS also seeks to continue using the current application until the revised application is approved by OMB. The current application is due to expire on December 31, 2017.

Dated: July 10, 2017.
Kelly DeGraff,
Senior Advisor, Disaster Services Unit, Corporation for National and Community Service.

[FR Doc. 2017-14728 Filed 7-12-17; 8:45 am]

BILLING CODE 6050-28-P